ENVIRONMENTAL PROTECTION AGENCY

[FRL-7890-7]

Science Advisory Board Staff Office; Notification of an Upcoming Meeting of the Science Advisory Board Ecological Processes and Effects Committee

AGENCY: Environmental Protection Agency (EPA).

ACTION: Notice.

SUMMARY: The EPA Science Advisory Board (SAB) Staff Office announces a public teleconference of the SAB Ecological Processes and Effects Committee.

DATES: April 21, 2005. The public teleconference will be held on April 21, 2005, from 12 p.m. to 2 p.m. (eastern time).

FOR FURTHER INFORMATION CONTACT: Any member of the Public wishing to obtain the teleconference call-in number and access code to participate in the teleconference may contact Dr. Thomas Armitage, Designated Federal Officer (DFO), U.S. EPA Science Advisory Board by telephone/voice mail at (202) 343-9995, or via e-mail at armitage.thomas@epa.gov. The SAB Mailing address is: U.S. EPA, Science Advisory Board (1400F), 1200 Pennsylvania Avenue, NW., Washington, DC 20460. General information about the SAB may be found in the SAB Web site at http://www.epa.gov/sab.

SUPPLEMENTARY INFORMATION: Background: Ecological risk assessments have been conducted since the 1980's, and EPA's Guidelines for Ecological Risk Assessment (document number: EPA/630/R095/002F available at http://cfpub.epa.gov/ncea/cfm/recordisplay.cfm?deid=12460) were published in 1998. Since 1998, the practice of ecological risk assessment has continued to advance. The SAB Ecological Processes and Effects Committee (EPEC) has proposed a project to evaluate the current state of the practice of ecological risk assessment. The proposed project is intended to address scientific aspects of ecological risk assessment including, but not limited to, approaches for toxic chemicals, habitat modification, multiple stressors, and landscape level assessments. The EPEC will meet by teleconference to discuss the proposed project. The teleconference agenda will be posted on the SAB website prior to the teleconference.

Procedures for Providing Public Comment: It is the policy of the EPA Science Advisory Board (SAB) Staff Office to accept written public comments of any length, and to accommodate oral public comments whenever possible. The EPA SAB Staff Office expects that public statements presented at the Ecological Processes and Effects Committee teleconference will not be repetitive of previously submitted oral or written statements. Oral Comments: In general, each individual or group requesting an oral presentation at a conference call meeting will be limited to no more than three minutes per speaker and no more than fifteen minutes total. Interested parties should contact the DFO in writing via e-mail at least one week prior to the teleconference in order to be placed on the public speaker list. Written Comments: Although written comments are accepted until the date of the teleconference (unless otherwise stated), written comments should be received in the SAB Staff Office at least one week prior to the teleconference date so that the comments may be made available to the committee or panel for their consideration. Comments should be supplied to the DFO at the address/contact information above in the following formats: one hard copy with original signature, and one electronic copy via e-mail (acceptable file format: Adobe Acrobat, WordPerfect, Word, or Rich Text files (in IBM-PC/Windows 98/2000/XP format).

Meeting Accommodations: Individuals requiring special accommodation to access the teleconference, should contact the relevant DFO at least five business days prior to the meeting so that appropriate arrangements can be made.

Dated: March 22, 2005.
Vanessa T. Vu,
Director, EPA Science Advisory Board Staff Office.

[FR Doc. 05-6192 Filed 3-28-05; 8:45 am]

BILLING CODE 6560-50-P